DEPARTMENT OF STATE

[Public Notice 5384]

Notice of Meeting of the Cultural Property Advisory Committee

There will be a meeting of the Cultural Property Advisory Committee on Thursday, June 8, 2006, from approximately 9 a.m. to 5 p.m., and on Friday, June 9, from approximately 9 a.m. to 2 p.m., at the Department of State, Annex 44, Room 840, 301 4th St., SW., Washington, DC. During its meeting the Committee will review a proposal to extend the Memorandum of Understanding Between the Government of the United States of America and the Government of the Republic of Bolivia Concerning the Imposition of Import Restrictions on Archaeological Material from the Pre-Columbian Cultures and Certain Ethnological Material from the Colonial and Republican Periods of Bolivia. The Government of the Republic of Bolivia has notified the Government of the United States of America of its interest in such an extension.

The Committee's responsibilities are carried out in accordance with provisions of the Convention on Cultural Property Implementation Act (19 U.S.C. 2601 et seq.). The text of the Act and subject Memorandum of Understanding, as well as related information may be found at http://exchanges.state.gov/culprop. Portions of the meeting on June 8 and 9 will be closed pursuant to 5 U.S.C. 552b(c)(9)(B) and 19 U.S.C. 2605(h). However, on June 8, the Committee will hold an open session from approximately 10 a.m. to 11:30 a.m., to receive oral public comment on the proposal to extend. Persons wishing to attend this open session should notify the Cultural Heritage Center of the Department of State at (202) 453-8800 by Thursday, June 1, 2006, 3 p.m. (EDT) to arrange for admission. Seating is limited.

Those who wish to make oral presentations at the public session should request to be scheduled and must submit a written text of the oral comments by May 24 to allow time for distribution to Committee members prior to the meeting. Oral comments will be limited to allow time for questions from members of the Committee and must specifically address the determinations under section 303(a)(1) of the Convention on Cultural Property Implementation Act, 19 U.S.C. 2602, pursuant to which the Committee must make findings. This citation for the determinations can be found at the Web site noted above.

The Committee also invites written comments and asks that they be submitted no later than May 24 to allow time for distribution to Committee members prior to the meeting. All written materials, including the written texts of oral statements, may be faxed to (202) 435-8803. If five pages or more, 20 duplicates of written materials must be sent by express mail to: Cultural Heritage Center, Department of State, Annex 44, 301 4th Street, SW., Washington, DC 20547; tel: (202) 453-8800.

Dated: April 21, 2006.
C. Miller Crouch,
Acting Assistant Secretary for Educational and Cultural Affairs, Department of State.

[FR Doc. E6-6756 Filed 5-3-06; 8:45 am]

BILLING CODE 4710-05-P